DEPARTMENT OF THE INTERIOR

Bureau of Ocean Energy Management

[Docket No. BOEM-2018-0018]

Request for Feedback on BOEM's Proposed Path Forward for Future Offshore Renewable Energy Leasing on the Atlantic Outer Continental Shelf

AGENCY: Bureau of Ocean Energy Management, Interior.

ACTION: Request for feedback, reopening of comment period.

SUMMARY: The Bureau of Ocean Energy Management (BOEM) issued a Request for Feedback (RFF) in the Federal Register on April 6, 2018, seeking public input on its proposed path forward and factors affecting future renewable leasing offshore the United States Atlantic Coast. That notice had a comment period deadline of May 21, 2018. Several stakeholders have contacted BOEM and requested additional time to submit a comment. BOEM is reopening the comment period.

DATES: All comments submitted in response to this RFF and extension must be received by BOEM no later than 11:59 p.m. Eastern Time on July 5, 2018. BOEM will consider submissions sent by mail as long as they are postmarked by the last day of the comment period.

ADDRESSES: Comments should be submitted in one of the two following ways:

1. Electronically: http://www.regulations.gov. In the entry entitled, “Enter Keyword or ID,” search for BOEM-2018-0018. Follow the instructions to submit public comments in response to this document.

2. Written Comments: In written form, delivered by hand or by mail, enclosed in an envelope labeled, “Comments on Request for Feedback” to: Office of Renewable Energy Programs, Bureau of Ocean Energy Management, 45600 Woodland Road, VAM-OREP, Sterling, Virginia 20166.

FOR FURTHER INFORMATION CONTACT: Jeffrey Browning, BOEM Office of Renewable Energy Programs, 45600 Woodland Road, VAM-OREP, Sterling, Virginia 20166, (703) 787-1577 or Jeffrey.Browning@boem.gov.

SUPPLEMENTARY INFORMATION:

Authority: This notice is published pursuant to subsection 8(p) of the Outer Continental Shelf Lands Act (OCSLA) (43 U.S.C. 1337(p)), added by section 388 of the Energy Policy Act of 2005, and the implementing regulations at 30 CFR 585.116.

Background and Purpose: The RFF seeks input from stakeholders regarding areas where offshore wind development offshore the United States Atlantic Coast may or may not be appropriate, and what factors BOEM should consider in the early stages of its future planning processes in that area. The RFF, described in detail in the Federal Register (83 FR 14881 (April 6, 2018)), had an initial comment deadline of May 21, 2018, but several stakeholders have requested additional time to comment. BOEM agrees that it would be helpful in this instance to reopen the comment period through July 5, 2018.

Protection of Privileged or Confidential Information: BOEM will protect privileged or confidential information that you submit, as provided in the Freedom of Information Act (FOIA). Exemption 4 of FOIA applies to trade secrets and confidential commercial or financial information. If you wish to protect the confidentiality of such information, clearly mark it and request that BOEM treat it as confidential. BOEM will not disclose such information, except as provided in FOIA. Please label privileged or confidential commercial information “Contains Confidential Information” and consider submitting such information as a separate attachment.

BOEM will not treat as confidential any aggregate summaries or portions of comments not containing such information. Additionally, BOEM may not treat as confidential the legal title of the commenting entity (e.g., the name of your company). Information that is not labeled as privileged or confidential may be regarded by BOEM as suitable for public release.

Dated: June 4, 2018.
Walter D. Cruickshank,
Acting Director, Bureau of Ocean Energy Management.

[FR Doc. 2018-12316 Filed 6-7-18; 8:45 am]

BILLING CODE 4310-MR-P